DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the name of persons who have been removed from the list of Specially Designated Nationals and Blocked Persons and whose property and interests in property have been unblocked.

DATES: See SUPPLEMENTARY INFORMATION section.

FOR FURTHER INFORMATION CONTACT: OFAC: Associate Director for Global Targeting, tel: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The Specially Designated Nationals and Blocked Persons List (SDN List) and additional information concerning OFAC sanctions programs are available on OFAC's website (https://www.treasury.gov/ofac).

Notice of OFAC Actions

OFAC previously determined on November 7, 2001 that the individuals and entities listed below met one or more of the criteria under Executive Order 13224 of September 23, 2001, “Blocking Property and Prohibiting Transactions With Persons Who Commit, Threaten to Commit, or Support Terrorism,” (the “Order”). On February 12, 2020, the Director of OFAC, in consultation with the Secretary of State, determined that circumstances no longer warrant the inclusion of the following individuals and entities on the SDN List under this authority. These individuals and entities are no longer subject to the blocking provisions of Executive Order 13224, as amended.

Individuals

1. KAHIE, Abdullahi Hussein, Bakara Market, Dar Salaam Buildings, Mogadishu, Somalia; 26 Urtegata Street, Oslo 0187, Norway; DOB 22 Sep 1959; POB Mogadishu, Somalia; nationality Norway; Passport 26941812 (Norway) issued 23 Nov 2008; alt. Passport 27781924 (Norway) issued 11 May 2011 expires 11 May 2020; National ID No. 22095919778 (Norway) (individual) [SDGT].

2. ABDULLKADIR, Hussein Mahamud, Florence, Italy (individual) [SDGT].

Entities

1. AL BARAKA EXCHANGE LLC, P.O. Box 3313, Deira, Dubai, United Arab Emirates; P.O. Box 20066, Dubai, United Arab Emirates [SDGT].

2. AL-BARAKAAT, Mogadishu, Somalia; Dubai, United Arab Emirates [SDGT].

3. AL-BARAKAAT BANK, Mogadishu, Somalia [SDGT].

4. AL-BARAKAAT BANK OF SOMALIA (a.k.a. BARAKAAT BANK OF SOMALIA; a.k.a. “BBS”), Mogadishu, Somalia; Bossaso, Somalia [SDGT].

5. AL-BARAKAAT GROUP OF COMPANIES SOMALIA LIMITED (a.k.a. AL-BARAKAT FINANCIAL COMPANY), P.O. Box 3313, Dubai, United Arab Emirates; Mogadishu, Somalia [SDGT].

6. AL-BARAKAT FINANCE GROUP, Dubai, United Arab Emirates; Mogadishu, Somalia [SDGT].

7. AL-BARAKAT FINANCIAL HOLDING COMPANY, Dubai, United Arab Emirates; Mogadishu, Somalia [SDGT].

8. AL-BARAKAT GLOBAL TELECOMMUNICATIONS (a.k.a. BARAKAAT GLOBETELCOMPANY), P.O. Box 3313, Dubai, United Arab Emirates; Mogadishu, Somalia; Hargeysa, Somalia [SDGT].

9. AL-BARAKAT INTERNATIONAL (a.k.a. BARACO CO.), Box 2923, Dubai, United Arab Emirates [SDGT].

10. AL-BARAKAT INVESTMENTS, P.O. Box 3313, Deira, Dubai, United Arab Emirates [SDGT].

11. BARAKA TRADING COMPANY, P.O. Box 3313, Dubai, United Arab Emirates [SDGT].

12. BARAKAAT GROUP OF COMPANIES, P.O. Box 3313, Dubai, United Arab Emirates; Mogadishu, Somalia [SDGT].

13. BARAKAAT INTERNATIONAL COMPANIES (a.k.a. “BICO”), Mogadishu, Somalia; Dubai, United Arab Emirates [SDGT].

14. BARAKAAT NORTH AMERICA, INC., 925 Washington St., Dorchester, MA, United States; 2019 Bank St., Ottawa, Ontario, Canada [SDGT].

15. BARAKAAT RED SEA TELECOMMUNICATIONS, Bossaso, Somalia; Nakhiil, Somalia; Huruuse, Somalia; Raxmo, Somalia; Ticis, Somalia; Kowthar, Somalia; Noobir, Somalia; Bubaarag, Somalia; Gufure, Somalia; Xuuxuule, Somalia; Ala Aamin, Somalia; Guureeye, Somalia; Najax, Somalia; Carafaat, Somalia [SDGT].

16. BARAKAAT TELECOMMUNICATIONS COMPANY LIMITED (a.k.a. BTELCO), Bakara Market, Dar Salaam Buildings, Mogadishu, Somalia; Netherlands [SDGT].

17. BARAKAAT TELECOMMUNICATIONS COMPANY SOMALIA, LIMITED, P.O. Box 3313, Dubai, United Arab Emirates [SDGT].

18. BARAKAT BANK AND REMITTANCES, Mogadishu, Somalia; Dubai, United Arab Emirates [SDGT].

19. BARAKAT COMPUTER CONSULTING (a.k.a. “BCC”), Mogadishu, Somalia [SDGT].

20. BARAKAT CONSULTING GROUP (a.k.a. “BCG”), Mogadishu, Somalia [SDGT].

21. BARAKAT GLOBAL TELEPHONE COMPANY, Mogadishu, Somalia; Dubai, United Arab Emirates [SDGT].

22. BARAKAT POST EXPRESS (a.k.a. “BPE”), Mogadishu, Somalia [SDGT].

23. BARAKAT REFRESHMENT COMPANY, Mogadishu, Somalia; Dubai, United Arab Emirates [SDGT].

24. BARAKO TRADING COMPANY LLC (a.k.a. BARAKA TRADING COMPANY), P.O. Box 3313, Dubai, United Arab Emirates [SDGT].

25. HEYATUL ULYA, Mogadishu, Somalia [SDGT].

26. RED SEA BARAKAT COMPANY LIMITED, Mogadishu, Somalia; Dubai, United Arab Emirates [SDGT].

27. SOMALI INTERNET COMPANY, Mogadishu, Somalia [SDGT].

Dated: February 12, 2020.
Andrea M. Gacki,
Director, Office of Foreign Assets Control.

[FR Doc. 2020-03209 Filed 2-18-20; 8:45 am]

BILLING CODE 4810-AL-P